DEPARTMENT OF LABOR

Employment and Training Administration

Proposed Information Collection Request (ICR); Submitted for Public Comment and Recommendations; Workforce Investment Act: Migrant and Seasonal Farmworker Programs Under Section 167

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

DATES: Submit comments on or before September 20, 2004.

ADDRESSES: Send comments to Alina M. Walker, Chief, Division of Migrant and Seasonal Farmworker Programs, United States Department of Labor, Employment and Training Administration, 200 Constitution Ave. NW., Room S-4206, Washington, DC 20210, telephone: (202) 693-2706 (this is not a toll-free number), Internet address: walker.alina@DOL.GOV, and/or FAX: (202) 693-3945 (this is not a toll-free number).

SUPPLEMENTARY INFORMATION:

I. Background

Pursuant to Public Law 105-220, dated August 7, 1998, and 20 CFR Parts 652, et al., Workforce Investment Act (WIA) Final Rules, dated August 11, 2000, the Department's Employment and Training Administration (ETA) revised the financial and program reporting instructions for the National Farmworker Jobs Program (NFJP). WIA regulations at Part 669, Subpart A, establish that the general administrative requirements found in 20 CFR Part 667 apply to the NFJP program. The proposed reporting format and corresponding instructions have been developed in accordance with the Reporting Requirements contained in 20 CFR 667.300, including the provision for cumulative accrual reporting by fiscal year of appropriation. The data elements contained on the prototype format will be submitted electronically by NFJP grantees.

II. Review Focus

The Department is soliciting comments concerning the proposed extension collection of WIA, ETA, Program and Financial Reporting Requirements for NFJP. The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed ICR can be obtained by contacting the office listed above in the addressee section of this notice.

III. Current Actions

Type of Review: Reinstatement without change.

Agency: Employment and Training Administration.

Title: Workforce Investment Act (WIA), Employment and Training Administration, Program and Financial Reporting Requirements for the National Farmworker Jobs Program.

OMB Number: 1205-0425.

Agency Numbers: ETA 9093, 9094 and 9095.

Affected Public: State agencies; private, non-profit corporations; and consortia of any and/or all of the above.

Total Respondents: See the following Reporting Burden Table for NFJP grantees to report requested WIA program and financial data electronically on forms ETA 9093, 9094 and 9095.

DOL-ETA Reporting Burden for WIA Title I—NFJP Grantees
Required section 167 activity | NFJP Form # | Number of respondents | Responses per year | Total responses | Hours per response | Total burden hours
Plan narrative |  | 53 | 1 | 53 | 20 | 1,060
Data record |  | 53 | ⁽¹⁾ | 42,250 | 2 | 84,500
Report from data record |  | 53 | 4 | 212 | 1 | 212
Budget information summary | ETA 9093 | 53 | 1 | 53 | 15 | 795
Program planning summary | ETA 9094 | 53 | 1 | 53 | 16 | 848
Program status summary | ETA 9095 | 53 | 4 | 212 | 7 | 1,484
Totals |  | 53 | 11 | 42,833 | 61 | 88,899
¹ On occasion.

Total Burden Cost: 88,899 hours at $25 per hour.

Comments submitted in response to this comment request will be summarized and/or included in the request for Office of Management and Budget approval of the ICR; they will also become a matter of public record.

Dated: July 14, 2004.
Alina M. Walker,
Chief, Division of Migrant and Seasonal Farmworker Programs.

[FR Doc. 04-16429 Filed 7-19-04; 8:45 am]

BILLING CODE 4510-30-P